DEPARTMENT OF ENERGY

Federal Energy Regulatory Commission

[Docket No. RP99-496-005]

Southern Natural Gas Company; Notice of Proposed Changes in FERC Gas Tariff

March 21, 2000.

Take notice that on March 17, 2000, Southern Natural Gas Company (Southern) tendered for filing to become part of its FERC Gas Tariff, Seventh Revised Volume No. 1, the revised tariff sheets in Appendix A to the filing, with an effective date of March 1, 2000.

Southern hereby files to place into effect as of March 1, 2000 an interim rate reduction as reflected on the tariff sheets listed on Appendix A. The interim rates set forth on such sheets are proposed to go into effect for customers consenting to the offer of settlement filed by Southern on March 10, 2000 in Docket Nos. RP99-495-004 et al. The interim rates will remain in effect pending final Commission action on the settlement in this proceeding.

Southern states that copies of the revised tariff sheets are being filed to Southern's jurisdictional customers and interested state commissions and to parties on the official service list complied by the Secretary in this proceeding.

Any person desiring to protest said filing should file a protest with the Federal Energy Regulatory Commission, 888 First Street, NE., Washington, DC 20426, in accordance with Section 385.211 of the Commission's Rules and Regulations. All such protests must be filed on or before March 27, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-7396 Filed 3-24-00; 8:45 am]

BILLING CODE 6717-01-M